DEPARTMENT OF TRANSPORTATION

Federal Aviation Administration

14 CFR Part 71

[Docket No. FAA-2020-0567; Airspace Docket No. 20-AAL-15]

RIN 2120-AA66

Proposed Amendment to Federal Airways Amber 15 (A-15), V-444, J-502, and J-511; Alaska

AGENCY: Federal Aviation Administration (FAA), DOT.

ACTION: Notice of proposed rulemaking (NPRM).

SUMMARY: This action proposes to amend Federal airways A-15, V-444, J-502, and J-511 in Alaska. The modifications are necessary due to the decommissioning of the Burwash Non-Directional Beacon (NDB) in Yukon Territory, Canada, which provided navigation guidance for portions of the affected routes. The Burwash NDB was decommissioned effective March 26, 2020 due to ongoing maintenance problems and logistic issues.

DATES: Comments must be received on or before August 13, 2020.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2020-0567; Airspace Docket No. 20-AAL-15 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0567; Airspace Docket No. 20-AAL-15) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0567; Airspace Docket No. 20-AAL-15.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

Due to the decommissioning of the Burwash, YT, Canada, NDB it requires amendment to Federal airways A-15, V-444, and jet routes J-502 and J-511 to remove associated airway segments.

Colored Federal airway A-15 is currently published from the Ethelda, BC, Canada, NDB to the Delta Junction, AK, NDB and will require deletion of the segment between the Haines, AK, NDB and the Beaver Creek, YT, NDB. The requested amended route will stop at the US/Canadian border and resume at Beaver Creek YT, NDB.

Federal airway V-444 navigates from Barrow, AK, to the Burwash, YT, NDB, and the portion of the airway from the intersection of Northway 120° (M) 138° (T) and Gulkana 062° (M) 079° (T) to the Burwash, YT, NDB will require deletion.

Federal airway J-502 currently navigates from Seattle, WA to Kotzebue, AK and will require amendment to remove the segment from an intersection at the US/Canadian border north of the Sister Island, AK, VORTAC to an intersection at the US/Canadian border southeast of Northway, AK, VORTAC.

Federal airway J-511 currently navigates from Dillingham, AK, to Burwash Landing, YT. The segment of the route between Burwash Landing, YT, Canada and the intersection of Gulkana 078° radial; and Northway 137° will require deletion. The airway will terminate at the US/Canadian boundary.

The Proposal

The FAA is proposing an amendment to Title 14 Code of Federal Regulations (14 CFR) part 71 to amend Federal airways A-15, V-444, J-502, and J-511 The proposed Federal airway actions are described below.

A-15: A-15 currently extends between the Ethelda, BC, Canada, NDB and the Delta Junction, AK, NDB. This action proposes to remove the segment between the Intersection of Sisters Island 311° (M), 331° (T), and Whitehorse 189° (M), 207° (T) radials and Beaver Creek, YT, NDB. The unaffected portions of the existing route would remain as charted.

V-444: V-444 currently extends between the Barrow, AK, NDB and the Burwash, YT, NDB. This action proposes to remove the segment between the intersection of the Northway 120° (M), 138 ° (T), and Gulkana 062° (M), 079° (T) and Burwash, YT, NDB. The unaffected portions of the existing route would remain as charted. The portion within Canada is excluded.

J-502: J-502 currently extends between Seattle, WA and Kotzebue, AK. The FAA proposes to remove the segment between the Intersection of Sisters Island 311° (M), 331° (T), and Whitehorse 189° (M), 207° (T) radials; and the Intersection of Northway 120° (M), 138° (T), and Gulkana 062° (M), 079° (T) radials. The unaffected portions of the existing route would remain as charted.

J-511: J-511 currently extends between Dillingham, AK and Burwash Landing, YT, Canada, NDB. The FAA proposes to remove the segment between Gulkana, AK; and the intersection of Gulkana 078° (M), 102° (T) radial; and Northway 137° (M), 161° (T) radial. The unaffected portions of the existing route would remain as charted.

Colored and Alaskan VOR Federal airways are published in paragraphs 6009 and 6010(b) and Jet routes are published in paragraph 2004, of FAA Order 7400.11D dated August 8, 2019, and effective September 15, 2019, which is incorporated by reference in 14 CFR part 71.1. The Federal airways listed in this document will be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6009 Colored Federal Airways

* * * * *

A-15 [Amended]

From Ethelda, BC, Canada, NDB; Nichols, AK, NDB; Sumner Strait, AK, NDB; Coghlan Island, AK, NDB; Haines, AK, NDB; Intersection of Sisters Island 311° (M), 331° (T), and Whitehorse 189° (M), 207° (T) radials; and then; Beaver Creek, YT, Canada, NDB; Nabesna, AK, NDB; to Delta Junction, AK, NDB. The airspace within Canada is excluded.

* * * * *

Paragraph 6010(b) Alaskan VOR Federal Airways.

* * * * *

V-444 [Amended]

From Barrow, AK, Evansville, AK, NDB; Bettles, AK; Fairbanks, AK; Big Delta, AK; Northway, AK; intersection of the Northway 120° (M), 138° (T), and Gulkana 062° (M), 079° (T) radials.

* * * * *

Paragraph 2004 Jet Routes.

* * * * *

J-502 [Amended]

From Seattle, WA; via Victoria, BC, Canada; Port Hardy, BC, Canada; Annette Island, AK; Level Island, AK; Sisters Island, AK; Intersection of Sisters Island 311° (M), 331° (T), and Whitehorse 189° (M), 207° (T) radials. From the Intersection of Northway 120° (M), 138° (T), and Gulkana 062° (M), 079° (T) radials; Northway, AK; Fairbanks, AK; to Kotzebue, AK, excluding the airspace within Canada.

* * * * *

J-511 [Amended]

From Dillingham, AK; via INT Dillingham 059° and Anchorage, AK 247° radials, to Anchorage, AK; Gulkana, AK; to Intersection of Gulkana 078° (M), 102° (T) radial; and Northway 137° (M), 161° (T) radial.

* * * * *

Issued in Washington, DC, on June 22, 2020.
Scott M. Rosenbloom,
Acting Manager, Rules and Regulations Group.

[FR Doc. 2020-13807 Filed 6-26-20; 8:45 am]

BILLING CODE 4910-13-P